DEPARTMENT OF AGRICULTURE

Rural Utilities Service

Announcement of Grant Application Deadlines and Funding Levels for the Assistance to High Energy Cost Rural Communities Grant Program

AGENCY: Rural Utilities Service, USDA.

ACTION: Notice of Solicitation of Applications (NOSA); correction.

SUMMARY: The Rural Utilities Service (RUS), an agency of the United States Department of Agriculture (USDA) published a document in the Federal Register on October 12, 2017 announcing the availability of up to $10 million in fiscal year 2017 (FY17) and application deadlines for competitive grants to assist communities with extremely high energy costs. The current version of one of the required forms to be included with the Application was not correctly identified.

FOR FURTHER INFORMATION CONTACT: Robin Meigel, USDA—Rural Utilities Service, 1400 Independence Avenue SW., Stop 1568, Washington, DC 20250-1568, telephone (202) 720-9452 or email to robin.meigel@wdc.usda.gov.

Correction

In the Federal Register of October 12, 2017, in FR Doc. 2017-22042, on page 47453, in “TABLE 2—REQUIRED CONTENT AND FORM OF APPLICATION PACKAGE, PART D. Additional Required Forms and Certifications,” the form identified as Rural Utilities Service ‘Certification Regarding Debarment, Suspension and Other Responsibility Matter—Primary Covered Transactions” is incorrect. The correct form title should read as follows: “Form AD 1047 'Certification Regarding Debarment, Suspension, and Other Responsibility Matters—Primary Covered Transactions'.”

Also, in the same FR Doc. 2017-22042, on page 47457, in the first column, under the heading “d. Application Part D—Additional Required Forms and Certifications,” fourth bullet from the top, the reference to the Rural Utilities Service “Certification Regarding Debarment, Suspension and Other Responsibility Matter—Primary Covered Transactions” is incorrect. The correct form title should read as follows: Form AD 1047 “Certification Regarding Debarment, Suspension and Other Responsibility Matters—Primary Covered Transactions.”

Dated: October 16, 2017.
Christopher A. McLean,
Acting Administrator, Rural Utilities Service.

[FR Doc. 2017-22857 Filed 10-20-17; 8:45 am]

BILLING CODE P